DEPARTMENT OF COMMERCE

National Oceanic and Atmospheric Administration

RIN: 0648-XP26

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of the Standing and Special Reef Fish Scientific and Statistical Committee (SSC).

DATES: The meeting will convene at 1 p.m. on Monday, June 1, 2009 and conclude by 3 p.m. on Wednesday, June 3, 2009.

ADDRESSES: The meeting will be held at the Hilton, 2225 N. Lois Ave., Tampa, FL 33607, telephone: (813) 877-6688.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The SSC will meet jointly with the Reef Fish Advisory Panel (AP) on the first day of the meeting. The SSC and AP will receive a brief orientation for new members, and will hear presentations on update assessments for gag and red grouper. The last full benchmark assessments for these stocks were completed in 2007 (SEDAR 10 for gag and SEDAR 12 for red grouper). The SSC and AP will also hear a presentation on the issues and preferred alternatives in Reef Fish Amendment 31 that address bycatch of sea turtles in the bottom longline reef fish fishery.

Following the presentations, the SSC and AP will reconvene separately. The SSC will review the role of the SSC as described in the Council's Statement of Organization, Practices, and Procedures (SOPPs) and proposed changes in the operations and administration of SSCs that are in a NMFS Proposed Rule (74 FR 13386), including financial disclosure requirements.

The SSC will also discuss the gag and red grouper update assessments, and determine if they are the best available scientific information. They will recommend an allowable biological catch (ABC) for each stock that must be equal to or less than the overfishing limit (OFL) specified in the update assessments after taking into account scientific uncertainty. The SSC may also make other comments and recommendations concerning the update assessments.

The SSC will also discuss and provide recommendations on the issues and preferred alternatives in Reef Fish Amendment 31. In addition, they will review a recently published scientific report that suggests that venting of fish may decrease rather than increase survival of fish caught from deeper waters, and will consider recommending that they convene a future workshop to review current research on venting and other safe release methods. The SSC will also elect a new Chair and Vice-chair. The comments and recommendations of the SSC will be presented to the Council at its June 15-18, 2009 meeting in Tampa, FL.

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: May 13, 2009.
Tracey L. Thompson,
Acting Director, Office of Sustainable Fisheries, National Marine Fisheries Service.

[FR Doc. E9-11472 Filed 5-15-09; 8:45 am]

BILLING CODE 3510-22-S